DEPARTMENT OF HEALTH AND HUMAN SERVICES (HHS)

Administration on Aging

Announcement of Fiscal Year 2000 Sole Source Awards

AGENCY: Administration on Aging, HHS.

ACTION: Announcement of sole source awards made by the Administration on Aging in fiscal year (FY) 2000 under the authority of Title IV of the Older Americans Act (42 U.S.C. 3001 et seq.).

SUMMARY: The Administration on Aging announces that it has made twenty-eight (28) new sole source awards in FY 2000 as follows: National Indian Council on Aging (NM), $130,000, March 1, 2000 to February 28, 2003; National Asian Pacific Center on Aging (WA), $260,000, March 1, 2000 to February 28, 2003; Asociacion National Pro Personas Mayores (CA), $150,000, September 1, 2000 to August 31, 2003; National Caucus and Center on Black Aged (DC), $150,000, September 1, 2000 to August 31, 2003; National Hispanic Council on Aging (DC), $150,000, September 1, 2000 to August 31, 2003; National Association of Home Builders Research Center, Inc. (MD), $553,285, April 1, 2000 to March 31, 2001; Christmas in April USA (DC), $322,756, June 1, 2000 to May 31, 2001; Albert Einstein Medical Center (PA), $920,000, September 30, 2000 to February 28, 2002; West Virginia University (WV), $460,000, May 1, 2000 to April 30, 2001; Community Programs of Long Island, Inc. (NY), $461,080, May 1, 2000 to July 31, 2001; Nevada Rural Counties RSVP Program (NV), $92,216, September 1, 2000 to August 31, 2001; University of Colorado Health Science Center (CO), $327,364, September 29, 2000 to September 28, 2003; University of North Dakota (ND), $327,365, September 1, 2000 to August 31, 2003; Metropolitan Family Services (IL), $250,000, September 30, 2000 to September 29, 2001; Santa Clara Indian Pueblo (NM), $461,000, September 1, 2000 to August 31, 2001; City of Norwalk (CA), $36,886, September 30, 2000 to September 29, 2001; Elderly Services Inc. (VT), $783,836, September 30, 2000 to March 30, 2002; VNA Home Health, Inc. (WI), $89,575, September 1, 2000 to August 31, 2001; City of Norwalk (CA), $36,886, September 30, 2000 to September 29, 2001; Pension Rights Center (DC), $187,500, April 1, 2000 to March 30, 2003; Legal Services for the Elderly (NY), $75,000, March 1, 2000 to February 28, 2003; California Advocates for Nursing Home Reform (CA), $75,000, March 1, 2000 to February 28, 2003; Older Womens League, Inc. (DC), $74,919, May 1, 2000 to April 30, 2003; Pima Council on Aging (AZ), $75,000, May 1, 2000 to April 30, 2003; Chicago Department on Aging (IL), $74,353, September 30, 2000 to September 29, 2003; University of Alabama (AL), $74,928, September 30, 2000 to September 29, 2003; Oregon Health Sciences University (OR), $922,160, August 1, 2000 to January 31, 2002; and Texas Tech University Health Sciences Center School of Medicine (TX), $1,857,786, August 1, 2000 to July 31, 2001.

All awards were made consistent with the terms of Senate Report 106-166 and House Report 106-370 which accompany the Consolidated Appropriations Act for FY 2000 (Pub. L. 106-113).

FOR FURTHER INFORMATION CONTACT: Edwin L. Walker, 202-619-1828.

Dated: October 10, 2000.
Jeanette C. Takamura,
Assistant Secretary for Aging.

[FR Doc. 00-26734 Filed 10-17-00; 8:45 am]

BILLING CODE 4154-01-U